DEPARTMENT OF ENERGY

Federal Energy Regulatory Commission

[Project No. 12677-002]

Lake Shannon Hydroelectric Company, LLC; Notice of Surrender of Preliminary Permit

June 7, 2007.

Take notice that Lake Shannon Hydroelectric Company, LLC, permittee for the proposed Scoggins Dam Hydroelectric Project, has requested that its preliminary permit be terminated. The permit was issued on October 3, 2006, and would have expired on September 30, 2009.¹ The project would have been located on Scoggins Creek in Washington County, Oregon.

¹ 117 FERC ¶ 62,001.

The permittee filed the request on May 21, 2007, and the preliminary permit for Project No. 12677 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Kimberly D. Bose,
Secretary.

[FR Doc. E7-11462 Filed 6-13-07; 8:45 am]

BILLING CODE 6717-01-P